SECURITIES AND EXCHANGE COMMISSION

Submission for OMB Review; Comment Request

Upon Written Request, Copies Available From: Securities and Exchange Commission, Office of Investor Education and Advocacy, Washington, DC 20549-0213.

Extension:

Form N-CSR, SEC File No. 270-512, OMB Control No. 3235-0570.

Notice is hereby given that, pursuant to the Paperwork Reduction Act of 1995 (44 U.S.C. 3501 et seq.), the Securities and Exchange Commission (the “Commission”) has submitted to the Office of Management and Budget (“OMB”) a request for extension of the previously approved collection of information discussed below.

Form N-CSR (17 CFR 249.331 and 274.128) is a combined reporting form used by management investment companies to file certified shareholder reports under the Investment Company Act of 1940 (15 U.S.C. 80a-1 et seq.) (“Investment Company Act”) and under the Securities Exchange Act of 1934 (15 U.S.C. 78a et seq.) (“Exchange Act”). Form N-CSR is to be used for reports under Section 30(b)(2) of the Investment Company Act and Section 13(a) or 15(d) of the Exchange Act, filed pursuant to rule 30b2-1(a) under the Investment Company Act (17 CFR 270.30b2-1(a)). Reports on Form N-CSR are to be filed with the Commission not later than 10 days after the transmission to stockholders of any report that is required to be transmitted to stockholders under rule 30e-1 under the Investment Company Act (17 CFR 270.30e-1).

The Commission estimates that there are 6,640 reports filed on Form N-CSR annually and that the average number of portfolios referenced in each filing is 3.75. The Commission further estimates that the hour burden for preparing and filing a report on Form N-CSR is 7.62 hours per portfolio. Given that filings on Form N-CSR are filed semi-annually, filings on Form N-CSR require 15.24 hours per portfolio each year. The total annual hour burden for Form N-CSR, therefore, is estimated to be 154,686 hours.

The current total annual cost burden to respondents for outside professionals associated with the collection of data relating to Form N-CSR is currently $1,119,001 and the new total annual cost burden to respondents is estimated to be $1,556,401, representing an increase of $437,400.

The information collection requirements imposed by Form N-CSR are mandatory. Responses to the collection of information will not be kept confidential. An agency may not conduct or sponsor, and a person is not required to respond to a collection of information unless it displays a currently valid control number.

Please direct general comments regarding the above information to the following persons: (i) Desk Officer for the Securities and Exchange Commission, Office of Management and Budget, Room 10102, New Executive Office Building, Washington, DC 20503 or send an e-mail to: Shagufta Ahmed at Shagufta_Ahmed@omb.eop.gov; and (ii) Jeffrey Heslop, Acting Director/CIO, Securities and Exchange Commission, C/O Remi Pavlik-Simon, 6432 General Green Way, Alexandria, VA 22312, or send an e-mail to: PRA_Mailbox@sec.gov. Comments must be submitted to OMB within 30 days of this notice.

Dated: October 13, 2010.
Florence E. Harmon,
Deputy Secretary.

[FR Doc. 2010-26343 Filed 10-19-10; 8:45 am]

BILLING CODE 8011-01-P